DEPARTMENT OF TRANSPORTATION

Office of the Secretary

Application of Charter Air Transport, Inc. for Commuter Authority

AGENCY: Department of Transportation.

ACTION: Notice of Order to Show Cause (Order 2010-3-8); Docket DOT-OST-2009-0187.

SUMMARY: The Department of Transportation is directing all interested persons to show cause why it should not issue an order finding Charter Air Transport, Inc., fit, willing, and able, and awarding it Commuter Air Carrier Authorization.

DATES: Persons wishing to file objections should do so no later than (insert date 5 business days from publication).

ADDRESSES: Objections and answers to objections should be filed in Docket DOT-OST-2009-0187 and addressed to U.S. Department of Transportation, Docket Operations, (M-30, Room W12-140), 1200 New Jersey Avenue, SE., West Building Ground Floor, Washington, DC 20590, and should be served upon the parties listed in Attachment A to the order.

FOR FURTHER INFORMATION CONTACT: Vanessa Balgobin, Air Carrier Fitness Division (X-56, Room W86-467), U.S. Department of Transportation, 1200 New Jersey Avenue, SE., Washington, DC 20590, (202) 366-9721.

Susan L. Kurland,
Assistant Secretary for Aviation and International Affairs.

[FR Doc. 2010-5555 Filed 3-12-10; 8:45 am]

BILLING CODE P